DEPARTMENT OF HOMELAND SECURITY

Coast Guard

33 CFR Parts 3, 100, and 165

[Docket Number USCG-2016-0060]

Renaming of Sector Baltimore as Sector Maryland-National Capital Region; Conforming Amendments

AGENCY: Coast Guard, DHS.

ACTION: Final rule.

SUMMARY: The Coast Guard is amending the Code of Federal Regulations (CFR) to reflect its renaming of Coast Guard Sector Baltimore as Coast Guard Sector Maryland-National Capital Region. These conforming amendments are necessary to ensure the CFR accurately reflects the new command name changes that were approved September 17, 2015. These amendments are not expected to have a substantive impact on the public.

DATES: This rule is effective June 14, 2016.

ADDRESSES: To view documents mentioned in this preamble as being available in the docket, go to http://www.regulations.gov, type USCG-2016-0060 in the “SEARCH” box and click “SEARCH.” Click on Open Docket Folder on the line associated with this rule.

FOR FURTHER INFORMATION CONTACT: If you have questions about this rule, call or email Dennis Sens, Fifth Coast Guard District, Prevention Division, telephone 757-398-6204, email Dennis.M.Sens@uscg.mil.

SUPPLEMENTARY INFORMATION:

I. Table of Abbreviations

CFR Code of Federal Regulations

DHS Department of Homeland Security

FR Federal Register

NPRM Notice of proposed rulemaking

OFCO Operating Facility Change Order

§ Section

U.S.C. United States Code

II. Background Information and Regulatory History

On September 17, 2015, the Coast Guard approved renaming Sector Baltimore as Sector Maryland-National Capital Region. The Coast Guard is renaming the Sector to more clearly identify the unit's missions and area of responsibility to the public.

We did not publish a notice of proposed rulemaking (NPRM) before this final rule. The Coast Guard finds that this rule is exempt from notice and comment rulemaking requirements under 5 U.S.C. 553(a)(2) and (b)(A) because the changes it makes are conforming amendments involving agency management and organization. The Coast Guard also finds good cause exists under 5 U.S.C. 553(b)(B) for not publishing an NPRM because the changes will have no substantive effect on the public, and notice and comment are therefore unnecessary. For the same reasons, the Coast Guard finds good cause under 5 U.S.C. 553(d)(3) to make the rule effective fewer than 30 days after publication in the Federal Register.

III. Legal Authority and Need for Rule

The Coast Guard is issuing this rule under authority in 14 U.S.C. 93. The purpose of this rule is to more clearly identify the functions and area of responsibility of this Coast Guard unit to the public. The Sector's location and boundaries are described in 33 CFR 3.25-15. The previous organization of Sector Baltimore is described and reflected in regulations, which also contain contact details and other references to Sector Baltimore. These conforming amendments update those regulations so that they contain current information under unit name Sector Maryland-National Capital Region.

IV. Discussion of the Rule

This rule amends existing regulations in 33 CFR to reflect the renaming of Sector Baltimore as “Sector Maryland-National Capital Region.” It also removes a temporary section that mentions Sector Baltimore, § 165.T05-0767, which we intended to be a rule lasting 6 hours that was to expire in 2013 but which still appears in the CFR. There will be no relocation of units, operational assets or personnel due to the renaming of Sector Baltimore. Sector Maryland-National Capital Region will retain Captain of the Port, Federal Maritime Security Coordinator, Officer in Charge Marine Inspection, Federal on Scene Coordinator, and all other authorities, responsibilities and sub-units, as previously assigned to Sector Baltimore. Only the title of these officials will change to reflect the new name of the sector. See Operating Facility Change Order (OFCO) No. 007-16 which is available in the docket for this rule.

V. Regulatory Analyses

We developed this rule after considering numerous statutes and Executive orders related to rulemaking. Below we summarize our analyses based on a number of these statutes and Executive orders.

A. Regulatory Planning and Review

Executive orders 12866 and 13563 direct agencies to assess the costs and benefits of available regulatory alternatives and, if regulation is necessary, to select regulatory approaches that maximize net benefits. Executive order 13563 emphasizes the importance of quantifying both costs and benefits, of reducing costs, of harmonizing rules, and of promoting flexibility. This rule has not been designated a “significant regulatory action,” under Executive order 12866. Accordingly, it has not been reviewed by the Office of Management and Budget. Because this rule involves internal agency organization and non-substantive changes, it will not impose any costs on the public.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. This rule does not require a general NPRM and therefore is exempt from the requirements of the Regulatory Flexibility Act. Although this rule is exempt, we have considered its potential impact on small entities and found that it will not have a significant economic impact on a substantial number of small entities.

Under section 213(a) of the Small Business Regulatory Enforcement Fairness Act of 1996 (Public Law 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves internal administrative action involving the renaming a Coast Guard unit. It is categorically excluded from further review under paragraph 34(b) of Figure 2-1 of the Commandant Instruction.

List of Subjects

33 CFR Part 3

Organization and functions (Government agencies).

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 3, 100, and 165 as follows:

PART 3—COAST GUARD AREAS, DISTRICTS, SECTORS, MARINE INSPECTION ZONES, AND CAPTAIN OF THE PORT ZONES

1. The authority citation for part 3 continues to read as follows:

Authority: 14 U.S.C. 92 & 93; Pub. L. 107-296, 116 Stat. 2135; Department of Homeland Security Delegation No. 0170.1, para. 2(23).

§ 3.25-15 [Amended]

2. In § 3.25-15, in the section heading, remove the word “Baltimore” and add in its place the words “Maryland-National Capital Region” and in the text, remove the word “Baltimore's” in the first and second sentences and add in its place the words “Sector Maryland-National Capital Region's”.

PART 100—SAFETY OF LIFE ON NAVIGABLE WATERS

3. The authority citation for part 100 continues to read as follows:

Authority: 33 U.S.C. 1233.

§ 100.501 [Amended]

4. In § 100.501—

a. In paragraph (d)(2), remove the words “Sector Baltimore” and add, in their place, the words “Sector Maryland-National Capital Region” and remove the words “Baltimore, Maryland” and add, in their place, the words “Maryland-National Capital Region”; and

b. In the Table to § 100.501, in heading (b.), remove the word “Baltimore” and add, in its place, the words “Maryland-National Capital Region”.

PART 165—REGULATED NAVIGATION AREAS AND LIMITED ACCESS AREAS

5. The authority citation for part 165 continues to read as follows:

Authority: 33 U.S.C. 1231; 50 U.S.C. 191; 33 CFR 1.05-1, 6.04-1, 6.04-6, and 160.5; Department of Homeland Security Delegation No. 0170.1.

§ 165.T05-0767 [Removed]

6. Remove § 165.T05-0767.

§ 165.500 [Amended]

7. In § 165.500—

a. In paragraph (b), remove the word “Baltimore” and add, in its place, the words “Maryland-National Capital Region”; and

b. In paragraphs (c)(2), remove the words “Baltimore, Maryland”, and add, in their place, the words “Maryland-National Capital Region”.

§ 165.502 [Amended]

8. In § 165.502, in paragraph (b)(1), remove the words “Baltimore, Maryland”, and add, in their place, the words “Maryland-National Capital Region”.

§ 165.505 [Amended]

9. In § 165.505, in paragraph (b)(1), remove the words “Baltimore, Maryland”, and add, in their place, the words “Maryland-National Capital Region”.

§ 165.506 [Amended]

10. In § 165.506—

a. In paragraph (c)(2), remove the words “Sector Baltimore” and add, in their place, the words “Sector Maryland-National Capital Region” and remove the words “Baltimore, Maryland” and add, in their place, the words “Maryland-National Capital Region”; and

b. In the Table to § 165.506, in heading (b.), remove the word “Baltimore” and add, in its place, the words “Maryland-National Capital Region”.

§ 165.507 [Amended]

11. In § 165.507—

a. In paragraph (a) remove the words “Baltimore, Maryland” wherever they appear, and add, in their places the words “Maryland-National Capital Region”; and

b. In paragraphs (c)(2) and (3), remove the words “Baltimore, Maryland” wherever they appear, and add, in their places the words “Maryland-National Capital Region” and in paragraph (c)(3) remove the words “Baltimore to” and add, in their place, the words “Sector Maryland-National Capital Region”.

§ 165.508 [Amended]

12. In § 165.508—

a. In paragraph (a) remove paragraph designation (1) and remove the words “Baltimore, Maryland” wherever they appear, and add, in their places the words “Maryland-National Capital Region”; and

b. In paragraphs (c)(2) and (3), remove the words “Baltimore, Maryland” wherever they appear, and add, in their places the words “Maryland-National Capital Region” and in paragraph (c)(3) remove the words “Baltimore to” and add, in their place, the words “Sector Maryland-National Capital Region”.

§ 165.509 [Amended]

13. In § 165.509, in paragraphs (a) and (c)(2) and (3), remove the words “Baltimore, Maryland” wherever they appear, and add, in their places, the words “Maryland-National Capital Region”, and in paragraph (c)(3) remove the words “Baltimore to” and add, in their place the words “Sector Maryland-National Capital Region”.

§ 165.512 [Amended]

14. In § 165.512—

a. In paragraph (a)(1), remove the words “Baltimore, Maryland” wherever they appear, and add, in their places, the words “Maryland-National Capital Region”; and remove the words “Sector Baltimore” and add, in their place, the words “Sector Maryland-National Capital Region”; and

b. In paragraphs (c)(2) and (3), remove the words “Baltimore, Maryland” wherever they appear, and add, in their places the words “Maryland-National Capital Region”.

§ 165.513 [Amended]

15. In § 165.513—

a. In paragraph (a) remove the words “Port Baltimore” wherever they appear, and add, in their places, the words “Port, Maryland-National Capital Region” and remove the words “Baltimore, Maryland” wherever they appear, and add, in their places the words “Maryland-National Capital Region”; and

b. In paragraphs (c)(2)-(4), remove the words “Port Baltimore” wherever they appear, and add, in their places, the words “Port, Maryland-National Capital Region”.

§ 165.518 [Amended]

16. In § 165.518, in paragraph (c)(7) remove the word “Baltimore” and add, in its place, the words “Maryland-National Capital Region”, and in paragraph (c)(3) remove the words “Baltimore to” and add, in their place, the words “Sector Maryland-National Capital Region”.

Dated: June 8, 2016.
Katia Kroutil,
Chief, Office of Regulations and Administrative Law.

[FR Doc. 2016-13983 Filed 6-13-16; 8:45 am]

BILLING CODE 9110-04-P